DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the semiannual agenda of Department of the Interior (Department) rules scheduled for review or development between Spring 2019 and Spring 2020. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of the Executive Secretariat and Regulatory Affairs, Department of the Interior, at the address above or at (202) 208-5257.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects. The complete Unified Agenda will be published at www.reginfo.gov, in a format that offers users enhanced ability to obtain information from the Agenda database. Agenda information is also available at www.regulations.gov, the government-wide website for submission of comments on proposed regulations.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation. If that determination is made, such rules will comply with Executive Order 13771.

Bivan R. Patnaik,
Deputy Director, Regulatory Affairs.

Bureau of Safety and Environmental Enforcement—Final Rule Stage
Sequence No. | Title | Regulation Identifier No.
127 | Revisions to the Blowout Preventer Systems and Well Control Rule | 1014-AA39

Assistant Secretary for Land and Minerals Management—Proposed Rule Stage
Sequence No. | Title | Regulation Identifier No.
128 | Revisions to the Requirements for Exploratory Drilling on the Arctic Outer Continental Shelf | 1082-AA01

United States Fish and Wildlife Service—Proposed Rule Stage
Sequence No. | Title | Regulation Identifier No.
129 | Migratory Bird Hunting; 2019-2020 Migratory Game Bird Hunting Regulations | 1018-BD10
130 | Migratory Bird Hunting; 2020-2021 Migratory Game Bird Hunting Regulations | 1018-BD89

Bureau of Ocean Energy Management—Proposed Rule Stage
Sequence No. | Title | Regulation Identifier No.
131 | Risk Management, Financial Assurance and Loss Prevention | 1010-AE00

DEPARTMENT OF THE INTERIOR (DOI)

Bureau of Safety and Environmental Enforcement (BSEE)

Final Rule Stage

127. Revisions to the Blowout Preventer Systems and Well Control Rule

E.O. 13771 Designation: Deregulatory.

Legal Authority: 43 U.S.C. 1331 to 1356a

Abstract: This rulemaking would revise the Bureau of Safety and Environmental Enforcement (BSEE) regulations published in the 2016 final rule entitled “Blowout Preventer Systems and Well Control,” 81 FR 25888 (April 29, 2016), for drilling, workover, completion and decommissioning operations. In accordance with section 4 of Secretary's Order 3350 (America-First Offshore Energy Strategy), Executive Order (E.O.) 13783 (Promoting Energy Independence and Economic Growth), and section 7 of E.O. 13795 (Implementing an America-First Offshore Energy Strategy), BSEE reviewed the 2016 final rule, considered stakeholder input on that rule, and has proposed revisions to reduce unnecessary burdens while ensuring that operations are conducted safely and in an environmentally responsible manner.

Timetable:

Action | Date | FR Cite
NPRM | 05/11/18 | 83 FR 22128
NPRM Comment Period Extended | 07/05/18 | 83 FR 31343
NPRM Comment Period End | 07/10/18 |
NPRM Comment Period Extended End | 08/06/18 |
Final Action | 05/00/19 |

Regulatory Flexibility Analysis Required: Yes.

Agency Contact: Lakeisha Harrison, Chief, Regulations and Standards Branch, Department of the Interior, Bureau of Safety and Environmental Enforcement, 45600 Woodland Road, Sterling, VA 20166, Phone: 703 787-1552, Fax: 703 787-1555, Email: lakeisha.harrison@bsee.gov.

RIN: 1014-AA39

DEPARTMENT OF THE INTERIOR (DOI)

Assistant Secretary for Land and Minerals Management (ASLM)

Proposed Rule Stage

128. Revisions to the Requirements for Exploratory Drilling on the Arctic Outer Continental Shelf

E.O. 13771 Designation: Deregulatory.

Legal Authority: 43 U.S.C. 1331 to 1356a; 33 U.S.C. 2701

Abstract: This proposed rule would revise specific provisions of the regulations published in the final Arctic Exploratory Drilling Rule, 81 FR 46478 (July 15, 2016), which established a regulatory framework for exploratory drilling and related operations within the Beaufort Sea and Chukchi Sea Planning Areas on the Outer Continental Shelf of Alaska. The rulemaking for this RIN replaces the Bureau of Safety and Environmental Enforcement's RIN 1014-AA40.

Timetable:

Action | Date | FR Cite
NPRM | 07/00/19 |

Regulatory Flexibility Analysis Required: Yes.

Agency Contact: Bryce Barlan, Regulatory Analyst, Department of the Interior, Bureau of Safety and Environmental Enforcement, 45600 Woodland Road, Sterling, VA 20166, Phone: 703 787-1126, Email: bryce.barlan@bsee.gov.

RIN: 1082-AA01

DEPARTMENT OF THE INTERIOR (DOI)

United States Fish and Wildlife Service (FWS)

Proposed Rule Stage

129. Migratory Bird Hunting; 2019-2020 Migratory Game Bird Hunting Regulations

E.O. 13771 Designation: Fully or Partially Exempt.

Legal Authority: 16 U.S.C. 703 to 712; 16 U.S.C. 742a-j

Abstract: We propose to establish annual hunting regulations for certain migratory game birds for the 2019-2020 hunting season. We annually prescribe outside limits (frameworks), within which States may select hunting seasons. This proposed rule provides the regulatory schedule, describes the proposed regulatory alternatives for the 2019-2020 duck hunting seasons, and requests proposals from Indian tribes that wish to establish special migratory game bird hunting regulations on Federal Indian reservations and ceded lands. Migratory game bird hunting seasons provide opportunities for recreation and sustenance; aid Federal, State, and Tribal governments in the management of migratory game birds; and permit harvests at levels compatible with migratory game bird population status and habitat conditions.

Timetable:

Action | Date | FR Cite
NPRM | 06/14/18 | 83 FR 27836
NPRM Comment Period End | 07/18/18 |
NPRM Supplemental | 09/21/18 | 83 FR 47868
NPRM Supplemental Comment Period End | 01/15/19 |
NPRM; Proposed Frameworks | 04/17/19 | 84 FR 16152
NPRM Comment Period End—Proposed Frameworks | 05/17/19 |
NPRM; Proposed Tribal Regulations | 05/00/19 |
Final Action; Final Frameworks | 06/00/19 |
Final Rule; Final Tribal Regulations | 07/00/19 |
Final Rule; Final Season Selections | 07/00/19 |

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Fax: 703 358-2217, Email: ronald_kokel@fws.gov.

RIN: 1018-BD10

130. • Migratory Bird Hunting; 2020-2021 Migratory Game Bird Hunting Regulations

E.O. 13771 Designation: Fully or Partially Exempt.

Legal Authority: 16 U.S.C. 703 to 712; 16 U.S.C. 742a-j

Abstract: We propose to establish annual hunting regulations for certain migratory game birds for the 2020-2021 hunting season. We annually prescribe outside limits (frameworks), within which States may select hunting seasons. This proposed rule provides the regulatory schedule, describes the proposed regulatory alternatives for the 2020-2021 duck hunting seasons, and requests proposals from Indian tribes that wish to establish special migratory game bird hunting regulations on Federal Indian reservations and ceded lands. Migratory game bird hunting seasons provide opportunities for recreation and sustenance; aid Federal, State, and Tribal governments in the management of migratory game birds; and permit harvests at levels compatible with migratory game bird population status and habitat conditions.

Timetable:

Action | Date | FR Cite
NPRM | 05/00/19 |
NPRM—Supplemental | 08/00/19 |
NPRM—Proposed Frameworks | 12/00/19 |
NPRM—Proposed Tribal Regs | 01/00/20 |

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Fax: 703 358-2217, Email: ronald_kokel@fws.gov.

RIN: 1018-BD89

DEPARTMENT OF THE INTERIOR (DOI)

Bureau of Ocean Energy Management (BOEM)

Proposed Rule Stage

131. Risk Management, Financial Assurance and Loss Prevention

E.O. 13771 Designation: Other.

Legal Authority: 43 U.S.C. 1331 et seq.

Abstract: As directed by Executive Order 13795, BOEM has reconsidered its financial assurance policies reflected in Notice to Lessees No. 2016-N01 (September 12, 2016). This rule will modify the policies established in the 2016 Notice to Lessees to ensure operator compliance with lease terms while minimizing unnecessary regulatory burdens, and codify the modifications.

Timetable:

Action | Date | FR Cite
NPRM | 05/00/19 |

Regulatory Flexibility Analysis Required: Yes.

Agency Contact: Deanna Meyer-Pietruszka, Chief, OPRA, Department of the Interior, Bureau of Ocean Energy Management, 1849 C Street NW, Washington, DC 20240, Phone: 202 208-6352, Email: deanna.meyer-pietruszka@boem.gov.

RIN: 1010-AE00

[FR Doc. 2019-12077 Filed 6-21-19; 8:45 am]

BILLING CODE 4334-63-P